DEPARTMENT OF AGRICULTURE

Farm Service Agency

Information Collection; Guaranteed Farm Loan Program

AGENCY: Farm Service Agency, USDA.

ACTION: Notice of re-opening of a public comment period.

SUMMARY: The Farm Service Agency (FSA) is reopening and extending the comment period for 60 days to allow interested individuals and organizations to comment on the extension and revision of a currently approved information collection associated with the Guaranteed Farm Loan Program. The amended estimate adds the merger of the information collection for the Land Contract Guarantee Program (0560-0279) into the Guaranteed Farm Loan Program. This information collection is used to make and service loans guaranteed by FSA to eligible farmers and ranchers by commercial lenders and to provide guarantees to the seller of a farm through the use of land contracts.

DATES: We will consider comments that we receive by December 23, 2013.

ADDRESSES: We invite you to submit comments on this notice. In your comments, include date, volume, and page number of this issue of the Federal Register. You may submit comments by any of the following methods:

• Federal eRulemaking Portal: Go to: www.regulations.gov. Follow the online instructions for submitting comments.

• Mail: Trent Rogers, Senior Loan Specialist, USDA, FSA, Stop 0522, 1400 Independence Avenue SW., Washington, DC 20250.

You may also send comments to the Desk Officer for Agriculture, Office of Information and Regulatory Affairs, Office of Management and Budget, Washington, DC 20503. Copies of the information collection may be requested by contacting Trent Rogers at the above addresses.

FOR FURTHER INFORMATION CONTACT: Trent Rogers, Senior Loan Specialist, (202) 720-3889.

SUPPLEMENTARY INFORMATION:

Description of Information Collection

Title: Guaranteed Farm Loans.

OMB Control Number: 0560-0155.

Expiration Date of Approval: 01/31/2014.

Type of Request: Extension with revision.

Abstract: FSA published the original notice and request for comments in the Federal Register on Friday, August 7, 2013 (78 FR 48135). The following information is being provided again and to amend the estimated total annual burden hours due to merger of two information collections.

This information collected under OMB Number 0560-0155 is needed to effectively administer the FSA's general guaranteed farm loan programs. The information is collected by the FSA loan official in consultation with participating commercial lenders. The basic objective of the guaranteed loan program is to provide credit to applicants who are unable to obtain credit from lending institutions without a guarantee. The reporting requirements imposed on the public by the regulations at 7 CFR part 762 are necessary to administer the guaranteed loan program in accordance with statutory requirements of the Consolidated Farm and Rural Development Act and are consistent with commonly performed lending practices.

FSA also provides guarantees for loans made by private sellers of a farm or ranch on a land contract sales basis. This information is needed to effectively administer the FSA Land Contract Guarantee Program. Since this program is also a guarantee program, FSA is merging the annual burden hours into the general Guaranteed Loan Program information collection. The reporting requirements imposed on the public by the regulations at 7 CFR part 763 are necessary to administer the Land Contract Guaranteed Loan Program in accordance with statutory requirements of the Consolidated Farm and Rural Development Act and as specified in the 2008 Farm Bill. Collection of information after loans are made is necessary to protect the Government's financial interest.

Overall, the number of respondents is estimated to increase by 458, the number of responses is estimated to decrease by 14,709, and the number of burden hours is estimated to decrease by 7,873 in comparison to the information that was published on August 7, 2013 (78 FR 48135). The changes are due to less usage of the interest assistance agreement form and merging the burden hours of the Land Contract Guarantee Program into the Guaranteed Loan Program information collection. The separate approval for OMB control number of 0560-0279 will discontinue when FSA receives OMB approval for the extension and revision of the OMB control number of 0560-0155.

FSA believes that requesting additional time to comment on the notice is reasonable and provides the public the opportunity to comment on the information collection. As result of reopening and extension, the comment period will close on December 23, 2013. All comments from the original notice published August 7, 2013 will be automatically included with the additional comments submitted in the response to this notice.

Estimate of Average Time To Respond: 62.2 minutes per response. The average travel time, which is included in the total annual burden, is estimated to be 1 hour per respondent

Type of Respondents: Farmers and ranchers.

Estimated Number of Respondents: 16,183.

Estimated Number of Report Filed per Respondent: 15.7.

Estimated Total Annual Number of Responses: 243,977.

Estimated Total Annual Burden Hours: 253,097.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses when provided, will be summarized and included in the request for OMB approval. All comments will also become a matter of public record.

Signed on September 26, 2013.
Juan M. Garcia,
Administrator, Farm Service Agency.

[FR Doc. 2013-24890 Filed 10-22-13; 8:45 am]

BILLING CODE 3410-05-P